DEPARTMENT OF JUSTICE

Office of Justice Programs

Agency Information Collection Activities: Proposed Collection; Comments Requested

ACTION: 60-day notice of information collection under review: New collection; survey of practitioners to assess the impact of transnational crime.

The Department of Justice, Office of Justice Programs, National Institute of Justice has submitted the following information collection request to the Office of Management and Budget (OMB) for review and approval in accordance with emergency review procedures of the Paperwork Reduction Act of 1995. OMB approval has been requested by November 13, 2002. The proposed information collection is published to obtain comments from the public and affected agencies. If granted, the emergency approval is only valid for 180 days. Comments should be directed to OMB, Office of Information and Regulation Affairs, Attention: Department of Justice Desk Officer, (202) 395-6466, Washington, DC 20503.

During the first 60 days of this same review period, a regular review of this information collection is also being undertaken. All comments and suggestions, or questions regarding additional information, to include obtaining a copy of the proposed information collection instrument with instructions, should be directed to Jay Albanese, Director, National Institute of Justice International Center, 810 7th Street, NW., Washington, DC 20531 or call (202) 616-1960.

Written comments and suggestion from the public and affected agencies concerning proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: New Collection.

(2) Title of the Form/Collection: Survey of Practitioners to Assess the Impact of Transnational Crime.

(3) Agency form number, if any, and the applicable component of the department sponsoring the collection: OJP Form Number, none. National Institute of Justice, Office of Justice Programs, Department of Justice.

(4) Affected public who will be asked or required to respond, as well as a brief abstract: Affected public includes law enforcement administrators or other persons responsible for investigatory operations within sampled jurisdictions. The survey will gather information about the impact of terrorism and other transnational crimes on local jurisdictions across the country, including resource allocation, collaboration with other agencies, extent of activity, and awareness of activity. The data will be used to advise the National Institute of Justice, Federal law enforcement agencies, and state and local law enforcement agencies on how state and local jurisdictions are impacted by terrorism and transnational crime.

(5) An estimate of the total number of respondents and the amount of time estimated for an average respondent to respond: An estimated 250 respondents will complete the survey which will take 30 minutes to complete.

An estimate of the total public burden (in hours) associated with this collection: An estimated 125 hours of public burden is associated with this collection.

If additional information is required, contact: Brenda E. Dyer, Department Deputy Clearance Officer, Information Management and Security Staff, Justice Management Division, United States Department of Justice, Patrick Henry Building, Suite 1600, 601 D Street NW., Washington, DC 20530.

Dated: October 30, 2002.
Brenda Dyer,
Department Deputy Clearance Officer, U.S. Department of Justice.

[FR Doc. 02-27920 Filed 11-1-02; 8:45 am]

BILLING CODE 4410-18-M